DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Consol Pennsylvania Coal Company, LLC.

DATES: All comments on the petition must be received by MSHA's Office of Standards, Regulations, and Variances on or before February 11, 2026.

ADDRESSES: You may submit comments identified by Docket No. MSHA-2025-0423 by any of the following methods:

1. Federal eRulemaking Portal: https://www.regulations.gov. Follow the instructions for submitting comments for MSHA-2025-0423.

2. Fax: 202-693-9441.

3. Email: petitioncomments@dol.gov.

4. Regular Mail or Hand Delivery: MSHA, Office of Standards, Regulations, and Variances, Room C3522, 200 Constitution Ave. NW, Washington, DC 20210.

Attention: Jessica D. Senk, Acting Director, Office of Standards, Regulations, and Variances. Individuals may inspect copies of the petition and comments during normal business hours at the address listed above. Before visiting MSHA in person, call 202-693-9440 to make an appointment.

FOR FURTHER INFORMATION CONTACT: Jessica D. Senk, Office of Standards, Regulations, and Variances at 202-693-9440 (voice), Petitionsformodification@dol.gov (email), or 202-693-9441 (fax). These are not toll-free numbers.

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-059-C.

Petitioner: Consol Pennsylvania Coal Company, LLC, 685 Patterson Creek Road, Sycamore, PA 15364.

Mine: Harvey Mine, MSHA ID No. 36-10045, located in Greene County, Pennsylvania.

Regulation Affected: 30 CFR 75.507-1(a), Permissible electric equipment.

Modification Request: The petitioner requests a modification of the existing standard, 30 CFR 75.507-1(a) as it pertains to battery-powered non-permissible testing and diagnostic equipment in return air outby the last open crosscut. Specifically the petitioner is requesting to use the vibration analyzers: Emerson AMS 2140 Machinery Health Analyzer and Balancer; Bentley Nevada vb7 Portable Data Collection Analyzer and Balancer; Bentley Nevada Scout 100 EX Vibration Data Collector Analyzer Balancer; Bentley Nevada Commtest Scout 140, VBX and Scout Unit. The petitioner is also requesting to use battery-powered non-permissible testing and diagnostic equipment, laptop computers, oscilloscopes, cable fault detectors, point temperature probes, infrared temperature devices, signal analyzer devices, ultrasonic measuring devices, electronic component testers and electronic tachometers, etc.

The petitioner states that:

(a) The petitioner seeks modification of 30 CFR 75.507-1(a), as it pertains to use of battery-powered non-permissible testing and diagnostic equipment, laptop computers, oscilloscopes, vibration analysis machines, cable fault detectors, point temperature probes, infrared temperature devices, signal analyzer devices, ultrasonic measuring devices, electronic component testers and electronic tachometers, etc.

(b) That standard 30 CFR 75.507-1(a) provides in relevant part:

All electric equipment, other than power-connection points, used in return air outby the last open crosscut in any coal mine shall be permissible except as provided in paragraphs (b) and (c) of this section.

(c) On occasion mining equipment breaks down in areas of a mine where permissible equipment is required and the equipment cannot be moved into intake air to perform diagnosis or repairs. It may not be possible to move it or is unsafe to move it. Permissible diagnostic and testing equipment is not available for all types of testing and diagnostics.

(d) In addition, preventative maintenance requires the use of sophisticated monitoring devices to ensure against catastrophic failure of equipment. Some equipment that is critical, e.g. longwall face equipment such as shearer and conveyor drives cannot be moved to outby areas to be tested.

(e) While the petitioner seeks a modification consistent with the modifications previously granted to other operators it also specifically seeks modification as to certain vibration analysis devices. The vibration analysis devices that would specifically be subject to this petition are as follows:

(1) Emerson AMS 2140 Machinery Health Analyzer and Balancer

(2) Bentley Nevada vb7 Portable Data Collection Analyzer and Balancer

(3) Bentley Nevada Scout 100 EX Vibration Data Collector Analyzer Balancer

(4) Bentley Nevada Commtest Scout 140, VBX and Scout Unit

(f) Such instruments are used by the petitioner and contractors to analyze for excessive vibration in order to provide information to avoid catastrophic failure of parts of the longwall face and other face equipment as well as on continuous miners.

(g) Such equipment as the longwall shearer, face conveyer drive motors cannot be moved out of the face areas where permissible equipment is normally required.

(h) In addition, the petitioner seeks a Proposed Decision and Order (PDO) granted by MSHA similar and identical to what other mine operators have been granted without specification of specifics models of laptops, oscilloscopes and other testing equipment. It does not intend at this time to separately specify the makes and models of such equipment. Should the petitioner intend to use such equipment, it would notify the District Manager for such approvals.

(i) The petitioner seeks modification of 30 CFR 75.507-1(a) as it applies to use of low voltage battery-powered non-permissible testing and diagnostic equipment.

(j) The mine utilizes the continuous miner and longwall method of mining.

(k) Accurate testing and diagnostics for trouble shooting equipment in return air outby the last open crosscut is critical to the safety of the miners at the Harvey Mine and to the repair and maintenance of its mining equipment.

(l) The petitioner seeks an alternative method to the mandatory safety standard, asserting it will provide the same or greater level of safety for miners.

The petitioner proposes the following alternative method:

(a) All non-permissible testing and diagnostic equipment used in return air outby the last open crosscut will be examined by a qualified person as defined in 30 CFR 75.153, prior to use to ensure the equipment is being maintained in a safe operating condition. These examinations results will be recorded in the weekly examination book and will be made available to MSHA and the miners at the mine.

(b) A qualified person as defined in 30 CFR 75.151 will continuously monitor for methane immediately before and during the use of non-permissible electronic testing and diagnostic equipment in return air outby the last open crosscut.

(c) Non-permissible electronic testing and diagnostic equipment will not be used if methane is detected in concentrations at or above one percent. When one percent or more methane is detected while the non-permissible electronic equipment is being used, the equipment will be de-energized immediately and the non-permissible equipment withdrawn outby the last open crosscut.

(d) All hand-held methane detectors will be MSHA approved and maintained in permissible and proper operating condition as defined in 30 CFR 75.320.

(e) Except for time necessary to troubleshoot under actual mining conditions coal production in the section will cease. However, coal may remain in or on the equipment to test and diagnose the equipment under “load”.

(f) All electronic testing and diagnostic equipment will be used in accordance with the safe use procedures recommended by the manufacturer. For the purposes of this petition, a “hazardous” location is one where the methane is at 1% or higher.

(g) Qualified personnel who use electronic testing and diagnostic equipment will be properly trained to recognize the hazards and limitations associated with use of the equipment.

(h) Rock dust shall be liberally applied to the area where testing is to be conducted.

(i) Non-permissible electronic testing and diagnostic equipment shall be used only when equivalent permissible equipment is not available.

(j) The operator shall post this Petition in unobstructed locations on the bulletin boards and/or in other conspicuous places where notices to miners are ordinarily posted, at all the mines for which this Petition applies, for a period of not less than 60 consecutive days and a copy will be made available to all miners' representatives.

(k) The petitioner shall include the listed terms and conditions in the initial and annual refresher training as required in its approved Part 48 training plans to ensure that miners are aware of the stipulations contained in this petition.

There are no representatives of miners at Harvey Mine. A copy of this Petition has been posted on the bulletin board as of October 3, 2025. In support of the proposed alternative method, the petitioner has also submitted specification sheets for the Emerson AMS 2140 Machinery Health Analyzer and Balancer; Bentley Nevada vb7 Portable Data Collection Analyzer and Balancer; Bentley Nevada Scout 100 EX Vibration Data Collector Analyzer Balancer; and the Bentley Nevada Commtest Scout 140, VBX and Scout Unit.

The petitioner asserts that the alternative method will guarantee no less than the same measure of protection afforded the miners under the mandatory standard.

Jessica D. Senk,
Acting Director, Office of Standards, Regulations, and Variances.

[FR Doc. 2026-00349 Filed 1-9-26; 8:45 am]

BILLING CODE 4520-43-P